DEPARTMENT OF ENERGY

Federal Energy Regulatory Commission

Combined Notice of Filings #1

Take notice that the Commission received the following exempt wholesale generator filings:

Docket Numbers: EG19-92-000.

Applicants: Seymour Hills Wind Project, LLC.

Description: Notice of Self-Certification of Exempt Wholesale Generator Status of Seymour Hills Wind Project, LLC.

Filed Date: 4/19/19.

Accession Number: 20190419-5087.

Comments Due: 5 p.m. ET 5/10/19.

Take notice that the Commission received the following electric rate filings:

Docket Numbers: ER19-1267-001.

Applicants: Midcontinent Independent System Operator, Inc., Duke Energy Indiana, LLC.

Description: Tariff Amendment: 2019-04-18_SA 3280 DEI-Roaming Bison Renewables E&P (J754) Substitute to be effective 3/14/2019.

Filed Date: 4/18/19.

Accession Number: 20190418-5179.

Comments Due: 5 p.m. ET 5/9/19.

Docket Numbers: ER19-1621-000.

Applicants: Great American Gas & Electric, LLC.

Description: Baseline eTariff Filing: Baseline New to be effective 6/1/2019.

Filed Date: 4/18/19.

Accession Number: 20190418-5205.

Comments Due: 5 p.m. ET 5/9/19.

Docket Numbers: ER19-1622-000.

Applicants: Google Energy LLC.

Description: § 205(d) Rate Filing: Revised Market Based Rate Tariff Filing to be effective 4/9/2019.

Filed Date: 4/18/19.

Accession Number: 20190418-5209.

Comments Due: 5 p.m. ET 5/9/19.

Docket Numbers: ER19-1623-000.

Applicants: Meyersdale Storage, LLC.

Description: § 205(d) Rate Filing: Meyersdale Storage MBR Tariff Revisions to be effective 4/19/2019.

Filed Date: 4/18/19.

Accession Number: 20190418-5210.

Comments Due: 5 p.m. ET 5/9/19.

Docket Numbers: ER19-1624-000.

Applicants: Unitil Service Corp.

Description: Unitil Power Corp submits Statement of all billing transactions under the Amended Unitil System Agreement for the period January 1, 2018 to December 31, 2018.

Filed Date: 4/18/19.

Accession Number: 20190418-5215.

Comments Due: 5 p.m. ET 5/9/19.

Docket Numbers: ER19-1625-000.

Applicants: Northern Indiana Public Service Company.

Description: § 205(d) Rate Filing: Filing of a CIAC Agreement to be effective 4/12/2019.

Filed Date: 4/19/19.

Accession Number: 20190419-5059.

Comments Due: 5 p.m. ET 5/10/19.

Docket Numbers: ER19-1626-000.

Applicants: Midcontinent Independent System Operator, Inc.

Description: § 205(d) Rate Filing: 2019-04-19_SA 2294 Heritage Garden Wind Farm-ATC 4th Rev GIA to be effective 4/4/2019.

Filed Date: 4/19/19.

Accession Number: 20190419-5092.

Comments Due: 5 p.m. ET 5/10/19.

Docket Numbers: ER19-1627-000.

Applicants: PacifiCorp.

Description: Tariff Cancellation: Termination of Orion Wind E&P Agreement to be effective 6/27/2019.

Filed Date: 4/19/19.

Accession Number: 20190419-5094.

Comments Due: 5 p.m. ET 5/10/19.

Docket Numbers: ER19-1628-000.

Applicants: Midcontinent Independent System Operator, Inc.

Description: § 205(d) Rate Filing: 2019-04-19_SA 3296 ITC-Dearborn Industrial Generation GIA to be effective 4/5/2019.

Filed Date: 4/19/19.

Accession Number: 20190419-5114.

Comments Due: 5 p.m. ET 5/10/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2019.
Nathaniel J. Davis, Sr.,
Deputy Secretary.

[FR Doc. 2019-08426 Filed 4-25-19; 8:45 am]

BILLING CODE 6717-01-P